DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment 6/25/2010 Through 7/16/2010
Firm | Address | Date accepted | Products for filing
Cadillac Tank & Fabricators, Inc | 225 W. Gerri Lane, Addison, IL 60101 | 6/25/2010 | The company is a manufacturer of metal parts for the locomotive and industrial manufacturing industries. The firm manufactures brackets, pads and custom weldments.
Express Scale Parts, Inc | 6873 Martindale Rd., Shawnee, KS | 6/29/2010 | Weighing, bagging and conveying equipment systems
Strive Development Corp. d/b/a Custom Production | 3100 Adora Teal Way, Crestview, FL 32539 | 6/29/2010 | The firm produces machined aluminum components for the bicycle industry.
Sun Mountain Lumber, Inc | P.O. Box 389, Deer Lodge, MT 59722 | 6/29/2010 | Sun Mountain Lumber manufacturers 2x4's and 2x6's in 6′, 7′, 8′ and 9′ lengths.
Metal Products Co. | 300 Garfield Street, McMinnville, TN 37110 | 6/30/2010 | The firm produces manufactured components for OEMs using sheet metal processing equipment primarily made out of steel and aluminum.
RSI Global, Inc | 2063 Paxton St., Harvey, LA 70058 | 6/30/2010 | Electronic control systems.
Vita Needle Company, Inc | 919 Great Plain Avenue, Needham, MA 02492 | 6/30/2010 | Needles, tubes and fabricated tubes and wires, machined components and adaptors.
National Magnetics Group, Inc | 1210 Win Drive, Bethehem, PA 18017 | 7/7/2010 | The company manufactures technical ceramics and powdered iron cores.
Manor Tool and Manufacturing Company | 9200 Ivanhoe Street, Schiller Park, IL 60179 | 7/8/2010 | The company is a manufacturer of custom metal components for the automotive, construction, consumer goods, commercial goods, medical, and defense industries.
Pivot Punch Corporation | 6550 Campbell Blvd., Lockport, NY 14094 | 7/9/2010 | Pivot Punch Corporation makes tooling for many industries including metal stamping, injection molders, metal extruders and several types of precision component parts.
Polymer Enterprises, Inc | 4731 Route 30, Greensburg, PA 15601 | 7/12/2010 | Polymer Enterprises, Inc., is a holding company with wholly owned subsidiaries that manufacture pneumatic tires and rubber parts for the tire manufacturing industry.
Prime Synthesis, Inc | 2 New Road, Aston, PA 19014 | 7/12/2010 | Prime Synthesis manufactures synthetic DNA and related chemicals used in research, development, and clinical testing.
SAE Circuits of Colorado, Inc, | 4820 63rd Street, Suite Boulder, CO 80301 | 7/12/2010 | SAE Circuits produces printed circuit boards, which are produced using epoxy resin insulating layers and copper, and other conductive material, conducting layers.
Ex-Cell Kaiser, LLC | 11240 Melrose Ave., Franklin Park, IL 60131 | 7/13/2010 | Company is a contract manufacturer of over 200 sheet metal products. The firm manufactures cigarette sand and wall urns, small waste receptacles, dust pans and table top ashtrays.
Superior Battery Manufacturing Co., Inc | P.O. Box 1010, Russell Springs, KY 42642 | 7/16/2010 | The firm produces lead acid batteries; primary manufacturing materials include lead, plastic and sulfuric acid.
United CoolAir Corporation | 491 East Princess Drive, York, PA 17403 | 7/16/2010 | The company manufactures air conditioning equipment for a number of applications.

Any party having a substantial interest in these proceedings may request a public hearing on the matter. A written request for a hearing must be submitted to the Trade Adjustment Assistance for Firms Division, Room D100, Economic Development Administration, U.S. Department of Commerce, Washington, DC 20230, no later than ten (10) calendar days following publication of this notice.

Please follow the procedures set forth in Section 315.9 of EDA's final rule (71 FR 56704) for procedures for requesting a public hearing. The Catalog of Federal Domestic Assistance official program number and title of the program under which these petitions are submitted is 11.313, Trade Adjustment Assistance.

Dated: July 21, 2010.
Miriam J. Kearse,
Eligibility Certifier, Trade Adjustment Assistance for Firms Division.

[FR Doc. 2010-18333 Filed 7-26-10; 8:45 am]

BILLING CODE 3510-24-P